COMMITTEE FOR PURCHASE FROM PEOPLE WHO ARE BLIND OR SEVERELY DISABLED

Procurement List; Additions and Deletions

AGENCY: Committee for Purchase From People Who Are Blind or Severely Disabled.

ACTION: Additions to the Procurement List.

SUMMARY: This action adds product(s) and service(s) to the Procurement List that will be furnished by nonprofit agencies employing persons who are blind or have other severe disabilities.

DATES: Date added to and deleted from the Procurement List: October 15, 2023.

ADDRESSES: Committee for Purchase From People Who Are Blind or Severely Disabled, 355 E Street SW, Washington, DC 20024.

FOR FURTHER INFORMATION CONTACT: Michael R. Jurkowski, Telephone: (703) 785-6404, or email CMTEFedReg@AbilityOne.gov.

SUPPLEMENTARY INFORMATION:

Additions

On 8/11/2023, the Committee for Purchase From People Who Are Blind or Severely Disabled published notice of proposed additions to the Procurement List. This notice is published pursuant to 41 U.S.C. 8503(a)(2) and 41 CFR 51-2.3.

After consideration of the material presented to it concerning capability of qualified nonprofit agencies to provide the product(s) and service(s) and impact of the additions on the current or most recent contractors, the Committee has determined that the product(s) and service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product(s) and service(s) to the Government.

2. The action will result in authorizing small entities to furnish the product(s) and service(s) to the Government.

3. There are no known regulatory alternatives which would accomplish the objectives of the Javits-Wagner-O'Day Act (41 U.S.C. 8501-8506) in connection with the product(s) and service(s) proposed for addition to the Procurement List.

End of Certification

Accordingly, the following product(s) and service(s) are added to the Procurement List:

Product(s)

NSN(s)—Product Name(s):

7930-00-NIB-2226—Dispenser, Handheld, 1:40 Dilutions, Blue/White

7930-00-NIB-2227—Dispenser, Handheld, 1:128 and 1:256 Dilutions, Red/White

7930-00-NIB-2228—Degreaser, Heavy-Duty, All-Purpose, 2 Liter Bottle, Yellow

7930-00-NIB-2236—Cleaner, Bathroom, 2 Liter Bottle, Teal

7930-00-NIB-2237—Cleaner, Neutral, Floor, 2 Liter Bottle, Red

7930-00-NIB-2238—Cleaner, Glass, Mirror, 2 Liter Bottle, Blue

7930-00-NIB-2239—Cleaner, Multipurpose, 2 Liter Bottle, Clear

Designated Source of Supply: Lighthouse for the Blind and Visually Impaired, San Francisco, CA

Contracting Activity: FEDERAL ACQUISITION SERVICE, GSA/FSS GREATER SOUTHWEST ACQUISITI

Mandatory For: Total Government Requirement

Distribution: A-List

Service(s)

Service Type: Janitorial

Mandatory for: UNICOR, Federal Prison Industries, Inc., Central Office, Washington, DC

Designated Source of Supply: Fedcap Rehabilitation Services, Inc., New York, NY

Contracting Activity: FEDERAL PRISON INDUSTRIES/UNICOR, CO BUSINESS OFFICE

Michael R. Jurkowski,
Acting Director, Business Operations.

[FR Doc. 2023-20006 Filed 9-14-23; 8:45 am]

BILLING CODE 6353-01-P